DEPARTMENT OF ENERGY

Agency Information Collection Extension

AGENCY: Department of Energy.

ACTION: Submission for Office of Management and Budget (OMB) review; comment request.

SUMMARY: The Department of Energy (DOE) has submitted an information collection request to the OMB for extension under the provisions of the Paperwork Reduction Act of 1995. The information collection requests a three-year extension of its Coordination of Federal Authorizations for Electric Transmission Facilities collection, OMB Control Number 1910-5185. The proposed collection will be used to meet requirements found in the Federal Power Act directing DOE to establish a pre-application process for qualifying electric transmission projects requiring multiple Federal authorizations. DOE published a Federal Register notice on September 25, 2020 soliciting 60 days of public comment. DOE received no comments.

DATES: Comments regarding this collection must be received on or before January 14, 2021. If you anticipate that you will be submitting comments, but find it difficult to do so within the period of time allowed by this notice, please advise the OMB Desk Officer of your intention to make a submission as soon as possible. The Desk Officer may be telephoned at 202-395-4718.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection instrument and instructions should be directed to Christopher A. Lawrence, U.S. Department of Energy, at Christopher.Lawrence@hq.doe.gov or 202-586-5260.

SUPPLEMENTARY INFORMATION: This information collection request contains: (1) OMB No.: 1910-5185; (2) Information Collection Request Title: Coordination of Federal Authorizations for Electric Transmission Facilities; (3) Type of Request: Extension; (4) Purpose: To meet requirements found in Section 216(h)(4)(c) of the Federal Power Act directing DOE to establish a pre-application process for qualifying electric transmission projects requiring multiple Federal authorizations. Section 216(h)(3) also allows an applicant to seek assistance for non-qualifying projects. Data supplied will be used to support an Initiation Request necessary to begin DOE's coordination assistance and must include, based on best available information, a Summary of Qualifying Project, Affected Environmental Resources and Impacts Summary, associated Maps, Geospatial Information, and Studies (provided in electronic format), and a Summary of Early Identification of Project Issues. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology. There has been no collection under this authority since its inception. (5) Annual Estimated Number of Respondents: 5, as this collection is addressed to a portion of the electric utility industry; (6) Annual Estimated Number of Burden Hours: 55 hours. (7) Annual Estimated Reporting and Recordkeeping Cost Burden: $3,113.00.

Statutory Authority: Federal Power Act, Sections 216(h)(3) and 216(h)(4)(c).

Signing Authority

This document of the Department of Energy was signed on December 8, 2020, by Patricia Hoffman, Acting Assistant Secretary, Office of Electricity, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 9, 2020.
Treena V. Garrett,
Federal Register Liaison Officer, U.S. Department of Energy.

[FR Doc. 2020-27478 Filed 12-14-20; 8:45 am]

BILLING CODE 6450-01-P